FEDERAL COMMUNICATIONS COMMISSION

47 CFR Part 9

[PS Docket No. 07-114; FRS 17212]

Wireless E911 Location Accuracy Requirements

AGENCY: Federal Communications Commission

.

ACTION: Final rule; correction.

SUMMARY: The Federal Communications Commission (Commission) is correcting the dates announced in a document that appeared in the Federal Register on August 28, 2020. That document announced that compliance with specific sections of the Commission rules will not be required until the Commission publishes a document in the Federal Register announcing the compliance date. This document corrects the list of rule provisions subject to this compliance date. In addition, this document revises a section of the Commission's rules to advise that compliance is not required until after OMB approval of the information collection and recordkeeping requirements.

DATES: November 5, 2020.

ADDRESSES: Federal Communications Commission, 45 L Street NE, Washington, DC 20554.

FOR FURTHER INFORMATION CONTACT: John Evanoff, john.evanoff@fcc.gov, of the Public Safety and Homeland Security Bureau, Policy and Licensing Division, (202) 418-0848.

SUPPLEMENTARY INFORMATION:

Correction

In FR Doc. 2020-18795 appearing on page 53234 in the Federal Register on Friday, August 28, 2020, the following corrections are made:

1. On page 53234, in the first column, the Compliance date is corrected to read:

Compliance date: Compliance will not be required for § 9.10(i)(2)(ii)(J)(4), (i)(4)(iv) and (v), (j)(4), and (k) until the Commission publishes a document in the Federal Register announcing the compliance date.

2. On page 53245, in the first column, paragraph 74 is corrected to read:

74. Paperwork Reduction Act Analysis. The requirements in sections 9.10(i)(2)(ii)(J)(4), 9.10(i)(4)(iv), 9.10(i)(4)(v), 9.10(j)(4) and 9.10(k), constitute modified information collections. They will be submitted to the Office of Management and Budget (OMB) for review under section 3507(d) of the Paperwork Reduction Act of 1995 (PRA). OMB, the general public, and other Federal agencies will be invited to comment on the new or modified information collection requirements contained in this proceeding. This document will be submitted to OMB for review under section 3507(d) of the PRA. In addition, we note that, pursuant to the Small Business Paperwork Relief Act of 2002, we previously sought, but did not receive, specific comment on how the Commission might further reduce the information collection burden for small business concerns with fewer than 25 employees. The Commission does not believe that the new or modified information collection requirements in sections 9.10(i)(2)(ii)(J)(4), 9.10(i)(4)(iv), 9.10(i)(4)(v), 9.10(j)(4) and 9.10(k), will be unduly burdensome on small businesses. Applying these new or modified information collections will promote 911 service and emergency response to the benefit of all sizes of governmental jurisdictions, businesses, equipment manufacturers, and business associations by providing greater confidence in 911 location accuracy and greater consistency between the Commission's horizontal and vertical location rules. We describe impacts that might affect small businesses, a category that includes most businesses with fewer than 25 employees, in the FRFA in Appendix B of the Sixth Report and Order and Order on Reconsideration.

3. On page 53245, in the second column, paragraph 77 is corrected to read:

77. It is further ordered that the amendments of the Commission's rules as set forth in Appendix A are adopted, effective thirty days from the date of publication in the Federal Register. Sections 9.10(i)(2)(ii)(J)(4), 9.10(i)(4)(iv), 9.10(i)(4)(v), 9.10(j)(4) and 9.10(k) contain new or modified information collection requirements that require OMB review under the PRA. The Commission directs the Public Safety and Homeland Security Bureau (Bureau) to announce the effective date of those information collections in a document published in the Federal Register after the Commission receives OMB approval, and directs the Bureau to cause section 9.10(s) to be revised accordingly.

List of Subjects in 47 CFR Part 9

Communications common carriers, Communications equipment, Radio.

Federal Communications Commission.
Marlene Dortch,
Secretary.

For the reasons discussed in the preamble, the Federal Communications Commission amends 47 CFR part 9 as follows:

PART 9—911 REQUIREMENTS

1. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, unless otherwise noted.

2. Amend § 9.10 by revising paragraph (s) to read as follows:

§ 9.10 911 Service.

* * * * *

(s) Compliance date(s). Paragraphs (i)(2)(ii)(C) and (D), (i)(2)(ii)(J)(4), (i)(4)(iv) and (v), (j)(4), (k), and (q)(10)(v) of this section contain information-collection and recordkeeping requirements. Compliance with paragraphs (i)(2)(ii)(C) and (D), (i)(2)(ii)(J)(4), (i)(4)(iv) and (v), (j)(4), (k) and (q)(10)(v) will not be required until after approval by the Office of Management and Budget. The Commission will publish a document in the Federal Register announcing compliance dates with those paragraphs and revising this paragraph (s) accordingly.

[FR Doc. 2020-24511 Filed 11-3-20; 11:15 am]

BILLING CODE 6712-01-P